DEPARTMENT OF THE INTERIOR

National Park Service

[NPS-WASO-NAGPRA-14820; PPWOCRADN0-PCU00RP14.R50000]

Notice of Intent To Repatriate a Cultural Item: Virginia Museum of Fine Arts, Richmond, VA

AGENCY: National Park Service, Interior.

ACTION: Notice.

SUMMARY: The Virginia Museum of Fine Arts, in consultation with the appropriate Indian tribes or Native Hawaiian organizations, has determined that the cultural item listed in this notice meets the definition of a sacred object and an object of cultural patrimony. Lineal descendants or representatives of any Indian tribe or Native Hawaiian organization not identified in this notice that wish to claim this cultural item should submit a written request to the Virginia Museum of Fine Arts. If no additional claimants come forward, transfer of control of the cultural item to the lineal descendants, Indian tribes, or Native Hawaiian organizations stated in this notice may proceed.

DATES: Lineal descendants or representatives of any Indian tribe or Native Hawaiian organization not identified in this notice that wish to claim this cultural item should submit a written request with information in support of the claim to the Virginia Museum of Fine Arts at the address in this notice by March 7, 2014.

ADDRESSES: Kelly Burrow, Virginia Museum of Fine Arts, 200 N. Boulevard, Richmond, VA 23220, telephone (804) 204-2669, email kelly.burrow@vmfa.museum.

SUPPLEMENTARY INFORMATION: Notice is here given in accordance with the Native American Graves Protection and Repatriation Act (NAGPRA), 25 U.S.C. 3005, of the intent to repatriate a cultural item under the control of the Virginia Museum of Fine Arts, Richmond, VA, that meets the definition of an object of cultural patrimony and a sacred object under 25 U.S.C. 3001.

This notice is published as part of the National Park Service's administrative responsibilities under NAGPRA, 25 U.S.C. 3003(d)(3). The determinations in this notice are the sole responsibility of the museum, institution, or Federal agency that has control of the Native American cultural items. The National Park Service is not responsible for the determinations in this notice.

History and Description of the Cultural Item

The Kéet Gooshi (Killerwhale Dorsel Fin) also called the “Bear Song Leader's Staff” is an object composed of a long handle and a carved and painted pierced blade, which according to Teikweidi Clan of Angoon, is a representation of the Brown Bear crest, embodying the Xoots (Bear). The blade is ornamented with eight tufts of cow's tail and is connected to the handle with cotton cord covered with swan's down and feathers.

The Bear Song Leader's Staff was originally in the collection of Axel Rasmussen, a superintendent of schools in Skagway, AK. In 1948, the Portland Art Museum purchased his collection. Records from the Portland Art Museum read as follows: “Purchase, Indian Collection Subscription Fund. To be known as the Axel Rasmussen Collection. Vendor, Earl Stendahl.” In 1955, the Virginia Museum of Fine Arts purchased part of the Rasmussen Collection from the Portland Art Museum, which included this Bear Song Leader's Staff (PAM accession # 48.3.460; VMFA accession # 55.31.1).

Representatives of the Central Council of the Tlingit & Haida Indian Tribes, specifically the Teikweidi clan, have identified that this staff depicts a representation of the Xoots crest and is owned by the Teikweidi clan. This crest is an object of cultural patrimony, as it is communally owned, and has ongoing historical, traditional, and cultural importance central to the Tlingit society and culture. This object is also a sacred object as it is vital to the ongoing cultural and religious practices that are unique to the Tlingit. Based on this information and consultation with the Central Council of the Tlingit & Haida Indian Tribes, the Virginia Museum of Fine Arts reasonably believes the Bear Song Leader's Staff is culturally affiliated with the Tlingit.

Determinations Made by the Virginia Museum of Fine Arts

Officials of the Virginia Museum of Fine Arts have determined that:

• Pursuant to 25 U.S.C. 3001(3)(C), the one cultural item described above is a specific ceremonial object needed by traditional Native American religious leaders for the practice of traditional Native American religions by their present-day adherents.

• Pursuant to 25 U.S.C. 3001(3)(D), the one cultural item described above has ongoing historical, traditional, or cultural importance central to the Native American group or culture itself, rather than property owned by an individual.

• Pursuant to 25 U.S.C. 3001(2), there is a relationship of shared group identity that can be reasonably traced between the Bear Song Leader's Staff and the Central Council Tlingit & Haida Indian Tribes.

Additional Requestors and Disposition

Lineal descendants or representatives of any Indian tribe or Native Hawaiian organization not identified in this notice that wish to claim this cultural item should submit a written request with information in support of the claim to Kelly Burrow, Virginia Museum of Fine Arts, 200 N. Boulevard, Richmond, VA 23220 telephone (804) 204-2669, email kelly.burrow@vmfa.museum by March 7, 2014. After that date, if no additional claimants have come forward, transfer of control of the Bear Song Leader's Staff to the Central Council Tlingit & Haida Indian Tribes may proceed.

The Virginia Museum of Fine Arts is responsible for notifying the Central Council Tlingit & Haida Indian Tribes that this notice has been published.

Dated: January 13, 2014.
Melanie O'Brien,
Acting Manager, National NAGPRA Program.

[FR Doc. 2014-02318 Filed 2-4-14; 8:45 am]

BILLING CODE 4312-50-P